DEPARTMENT OF THE INTERIOR

National Park Service

Notice of Availability of Morristown National Park General Management Plan and Environmental Impact Statement

AGENCY: National Park Service, Interior.

ACTION: Notice of availability.

SUMMARY: Pursuant to section 102(2)(C) of the National Environmental Policy Act of 1969, the National Park Service announces the availability of the Final General Management Plan and Environmental Impact Statement (GMP/EIS) for Morristown National Historical Park, New Jersey, that proposes a long-term approach to managing the park. Three management alternatives are presented that are consistent with the park's mission, NPS policy, and other laws and regulations. The alternatives incorporate various management prescriptions and zones to ensure that the park's resources are preserved, and that the public can enjoy the park. The environmental consequences that can be anticipated from implementing the various alternatives are documented. Impact topics include cultural and natural resources, visitor experience, park operations, the socioeconomic environment, impairment of resources, and sustainability. Alternative C was identified as the preferred alternative.

The Draft GMP/EIS was available for public review from March 7, 2003 to May 9, 2003. Copies of the comment letters and the National Park Service's responses to those comments are included in the final document. Draft text and graphics were refined and clarified where necessary, and respond to the public comments. Alternative C has been identified as the proposed action in the Final document. The Final GMP/EIS will be available to the public for 30 days, after which, a Record of Decision (ROD) will be signed indicating which alternative has been selected as the proposed plan, and authorizing the National Park Service to implement the plan.

SUPPLEMENTARY INFORMATION: To request a copy of the Final GMP/EIS please contact the National Park Service, Park Planning and Special Studies at the address above. Copies of the Final GMP/EIS will also be available for review at the following locations:

• Morristown National Historical Park headquarters, 30 Washington Place, Morristown, New Jersey

• Morris County Library, 30 E. Hanover Avenue, Whippany, New Jersey

• The Joint Free Public Library of Morristown and Morris Township, 1 Miller Road, Morristown, New Jersey

• Mendham Borough Library, 10 Hilltop Road, Mendham, New Jersey

• Bernards Township Library, 32 S. Maple Avenue, Basking Ridge, New Jersey

• Bernardsville Public Library, 1 Anderson Hill Road, Bernardsville, New Jersey

• Somerset County Library, 1 Vogt Drive, Bridgewater, New Jersey

Dated: October 8, 2003.
Robert W. McIntosh,
Associate Regional Director, Northeast Region.

[FR Doc. 03-30560 Filed 12-9-03; 8:45 am]

BILLING CODE 4310-70-M